DEPARTMENT OF TRANSPORTATION

Federal Motor Carrier Safety Administration

[Docket No. FMCSA-2022-0003]

Safety Fitness Determinations; Virtual Public Listening Sessions

AGENCY: Federal Motor Carrier Safety Administration (FMCSA), Department of Transportation (DOT).

ACTION: Notice of virtual public listening sessions.

SUMMARY: FMCSA announces that it will host two virtual public listening sessions pertaining to development of an updated methodology to determine when a motor carrier is not fit to operate commercial motor vehicles in or affecting interstate commerce. Specifically, the Agency would like to hear from members of the public on issues of concern relating to the current Safety Fitness Determination (SFD), including, for example, the three-tiered rating system (Satisfactory, Unsatisfactory, Conditional) versus changing to a proposed single rating only when a carrier is found to be Unfit; utilizing inspection data and FMCSA's Safety Measurement System (SMS); incorporating driver behavior into SFD ratings; and revising the list of safety violations used to calculate the rating, and adjusting the weights allocated to particular violations including increasing the weight for unsafe driving violations. In a separate notice, FMCSA announced and provided registration information for a related in-person listening session on the same topics to be held in June 2024.

DATES: The first virtual public listening session will be held on Tuesday, June 25, 2024, from 2:00 p.m. to 3:30 p.m. ET. A copy of the agenda will be available in advance of the session at https://events.gcc.teams.microsoft.com/event/24fb5978-6282-4bc0-9edf-606db60155aa@c4cd245b-44f0-4395-a1aa-3848d258f78b.

The second virtual public listening session will be held on Wednesday, July 31, 2024, from 2:00 p.m. to 3:30 p.m. ET. A copy of the agenda will be available in advance of the session at https://events.gcc.teams.microsoft.com/event/6d8b1246-2138-4ba9-821c-e926441fd2e1@c4cd245b-44f0-4395-a1aa-3848d258f78b.

Either session may end early if all participants wishing to express their views have done so.

Public Comment: The virtual sessions will allow members of the public to make brief statements to the panel. FMCSA will also accept written comments to the docket through August 7, 2024.

ADDRESSES: Both sessions will be held virtually. The link will be sent to participants after they register, which may be done at any time.

• Registration for the June 25, 2024, session must be completed at https://events.gcc.teams.microsoft.com/event/24fb5978-6282-4bc0-9edf-606db60155aa@c4cd245b-44f0-4395-a1aa-3848d258f78b.

• Registration for the July 31, 2024, session must be completed at https://events.gcc.teams.microsoft.com/event/6d8b1246-2138-4ba9-821c-e926441fd2e1@c4cd245b-44f0-4395-a1aa-3848d258f78b.

FOR FURTHER INFORMATION CONTACT: Stacy Ropp, (609) 661-2062, SafetyFitnessDetermination@dot.gov.

Services for Individuals with Disabilities: FMCSA is committed to providing equal access to the listening session. For accommodations for persons with disabilities, please email FMCSA.OUTREACH@dot.gov at least 1 week in advance of the session you wish to attend to allow time to make appropriate arrangements.

SUPPLEMENTARY INFORMATION:

I. Public Participation and Request for Comments

FMCSA encourages participation in the sessions and providing of comments. Members of the public may submit written comments to the public docket using any of the following methods:

A. Submitting Comments

If you submit a comment, please include the docket number for this notice (FMCSA-2022-0003). You may submit your comments and material online or by mail or hand delivery, but please use only one of these methods. FMCSA recommends that you include your name, email address, or a phone number in the body of your document.

To submit your comment online, go to www.regulations.gov. Insert the docket number (FMCSA-2022-0003) in the keyword box and click “Search.” Choose the document you want to comment on and click the “Comment” button. Follow the online instructions for submitting comments.

FMCSA will consider all comments and materials received during the comment period for this notice, as described in the DATES section.

B. Viewing Comments and Documents

To view comments, go to www.regulations.gov and insert the docket number (FMCSA-2022-0003) in the keyword box and click “Search.” Choose this notice and click “Browse Comments.” If you have questions on viewing or submitting material to the docket, contact Dockets Operations at (202) 366-9826. Business hours are from 8:00 a.m. to 4:30 p.m. ET, Monday through Friday, except Federal holidays. You may also submit or view docket entries in person or by mail: U.S. Department of Transportation, 1200 New Jersey Avenue SE, West Building, Ground Floor, Washington, DC 20590-0001. To be sure someone is there to help you, please call (202) 366-9317 or (202) 366-9826 before visiting Dockets Operations.

C. Privacy Act

In accordance with 5 U.S.C. 553(c), DOT solicits comments from the public to better inform its rulemaking process. DOT posts these comments, including any personal information the commenter provides, to www.regulations.gov, as described in the system of records notice (DOT/ALL-14 FDMS), which can be reviewed at https://www.transportation.gov/individuals/privacy/privacy-act-system-records-notices. The comments are posted without edits and are searchable by the name of the submitter.

II. Background

FMCSA believes it is in the public interest to host two virtual public listening sessions to receive additional comments on possible updates to the Agency's SFD methodology and process. Accordingly, FMCSA is announcing these virtual listening sessions, being held on June 25 and July 31, 2024. FMCSA has also published another notice formally announcing, and providing separate registration information for, a related in-person listening session on the same topics to be held in Houston, TX in June 2024 (89 FR 48703, June 7, 2024).

FMCSA is currently contemplating changes to its SFD process. To that end, the Agency published an ANPRM soliciting public input on the potential use of the SMS methodology to issue SFDs (88 FR 59489, Aug. 29, 2023). These virtual public listening sessions are intended to gain additional feedback on issues of concern relating to the current SFD, including, for example:

• Continuing the current SFD three-tiered rating system (Satisfactory, Unsatisfactory, Conditional) versus changing to a proposed single rating, issued only when a carrier is found to be Unfit;

• Utilizing inspection data and FMCSA's SMS;

• Incorporating driver behavior into SFD ratings; and

• Revising the list of safety violations used to calculate the rating, and adjusting the weights allocated to particular violations, including increasing the weight for 49 CFR 392.2 (unsafe driving) violations.

III. Meeting Participation

The virtual listening sessions are open to the public. Speakers' remarks will be limited to 3 minutes each.

Sue Lawless,
Acting Deputy Administrator.

[FR Doc. 2024-13500 Filed 6-18-24; 8:45 am]

BILLING CODE 4910-EX-P